GENERAL SERVICES ADMINISTRATION

[OMB Control No. 3090-0278]

National Contact Center; Customer Evaluation Survey

AGENCY: Citizen Services and Communications, Federal Citizen Information Center, (GSA).

ACTION: Notice of a new one-time collection.

SUMMARY: Under the provisions of the Paperwork Reduction Act of 1995 (44 U.S.C. Chapter 35), the General Services Administration, Office of Citizen Services and Communications (OSCS), Federal Citizen Information Center, National Contact Center (NCC) will submit to the Office of Management and Budget (OMB) a request to review and approve a new information collection requirement. This information collection will be used to assess the public's satisfaction with the NCC service, to assist in increasing the efficiency in responding to the public's need for Federal information, and to assess the effectiveness of marketing efforts. The respondents include users of the NCC.

Public comments are particularly invited on: Whether this collection of information is necessary for the proper performance of the functions of the agency including whether it will have practical utility; whether our estimate of the public burden of this collection of information is accurate, and based on valid assumptions and methodology; ways to enhance the quality, utility, and clarity of the information to be collected, including through the use of automated collection techniques or other forms of information technology.

DATES: Submit comments on or before: April 4, 2003.

FOR FURTHER INFORMATION CONTACT: Tonya Beres, Office of Citizen Services and Communications, at (202) 501-1803.

ADDRESSES: Submit comments regarding this burden estimate or any other aspect of this collection of information, including suggestions for reducing this burden to the Regulatory and Federal Assistance Publications Division, General Services Administration (MVA), Room 4035, 1800 F Street, NW., Washington, DC 20405.

SUPPLEMENTARY INFORMATION:

A. Purpose

This information collection will be used to assess the public's satisfaction with the NCC service, to assist in increasing the efficiency in responding to the public's need for Federal information, and to assess the effectiveness of marketing efforts.

B. Annual Reporting Burden

Respondents: 2,250.

Responses Per Respondent: 1.

Total Responses: 2,250.

Hours Per Response: .05 (3 minutes).

Total Burden Hours: 112.5.

Obtaining Copies of Proposals: Requesters may obtain a copy of the information collection documents from the General Services Administration, Regulatory and Federal Assistance Publications Division (MVA), 1800 F Street, NW., Room 4035, Washington, DC 20405, telephone (202) 208-7312, or by faxing your request to (202) 501-4067. Please cite 3090-0278, National Contact Center Customer Evaluation Survey in all correspondence.

Dated: January 2, 2003.
Michael W. Carleton,
Chief Information Officer (I).

[FR Doc. 03-2450 Filed 1-31-03; 8:45 am]

BILLING CODE 6820-CX-P